NATIONAL ARCHIVES AND RECORDS ADMINISTRATION

Appraisal Policy; Request for Comment

AGENCY: National Archives and Records Administration (NARA).

ACTION: Notice of availability of document; request for comment.

SUMMARY: NARA is seeking public comment on the draft Appraisal Policy. This proposal is part of NARA's series of records management initiatives to examine and redesign, as necessary, its records management policies and procedures. The draft policy is available on the NARA Opportunities for Public Comment web page at: http://www.archives.gov/about_us/opportunities_for_comment/opportunities_for_comment.html. For a paper copy of the report, contact the person listed in FOR FURTHER INFORMATION CONTACT.

DATES: Comments must be received by April 18, 2003.

ADDRESSES: Please send your comments to Susan Cummings (NPOL) by e-mail to susan.cummings@nara.gov or by fax to 301-837-0319 or by mail to NPOL, National Archives at College Park, Room 4100, 8601 Adelphi Rd, College Park, MD 20740-6001

FOR FURTHER INFORMATION CONTACT: Susan Cummings at 301-837-1636.

SUPPLEMENTARY INFORMATION: The Strategic Plan of the National Archives and Records Administration (NARA) states that NARA will ensure ready access to essential evidence that documents the rights of American citizens, the actions of Federal officials, and the national experience. In support of the NARA Strategic Plan, this draft Appraisal Policy sets out the strategic framework, objectives, and guidelines that the National Archives and Records Administration uses to determine whether Federal records have archival value. It also provides more specific guidelines for appraising the continuing historical value of certain categories of records including personal data records, research and development records, scientific observations, and environmental information.

Dated: March 21, 2003.
Nancy Allard,
Federal Register Liaison.

[FR Doc. 03-7333 Filed 3-25-03; 8:45 am]

BILLING CODE 7515-01-P